ENVIRONMENTAL PROTECTION AGENCY

40 CFR Parts 174 and 180

[EPA-HQ-OPP-2022-0161; FRL-9410-03-OCSPP]

Receipt of Pesticide Petitions Filed for Residues of Pesticide Chemicals in or on Various June 2022

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before August 19, 2022.

ADDRESSES: Submit your comments, identified by docket identification (ID) number EPA-HQ-OPP-2022-0161, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Marietta Echeverria, Registration Division (RD) (7505P), main telephone number: (703) 305-7090, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting Confidential Business Information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at https://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Amended Tolerance Exemptions for Inerts (Except PIPS)

IN-11470. (EPA-HQ-OPP-2021-0183). Croda, Inc., 300-A Columbus Circle, Edison, NJ 08837 requests to amend an exemption from the requirement of a tolerance for residues of styrene, copolymers with acrylic acid and/or methacrylic acid, with none and/or one or more of the following monomers: Acrylamidopropyl methyl sulfonic acid, methallyl sulfonic acid, 3-sulfopropyl acrylate, 3-sulfopropyl methacrylate, hydroxypropyl methacrylate, hydroxypropyl acrylate, hydroxyethyl methacrylate, hydroxyethyl acrylate, and/or lauryl methacrylate; and its sodium, potassium, ammonium, monoethanolamine, and triethanolamine salts; the resulting polymer having a minimum number average molecular weight (in amu), 1200 by adding poly (oxy-1,2-ethanediyl),α-(2-methyl-1-oxo-2-propenyl)- ω-methoxy- (CAS Reg. No. 26915-72-0) to the descriptor when used as a pesticide inert ingredient in pesticide formulations under 40 CFR 180.960. The petitioner believes no analytical method is needed because it is not required for an exemption from the requirement of a tolerance. Contact: RD.

B. Amended Tolerances for Non-Inerts

1. PP 2F8992. (EPA-HQ-OPP-2022-0488). BASF Corporation, 26 Davis Dr., P.O. Box 13528, Research Triangle Park, N.C. 27709, requests to amend the tolerance(s) in 40 CFR 180.714 for residues of the insecticide, broflanilide, including its metabolites and degradates, in or on poultry, fat by increasing the tolerance from 0.02 ppm to 0.3 parts per million (ppm) and by increasing the tolerance in or on poultry, meat byproducts from 0.02 ppm to 0.04 ppm. The BASF Analytical Method Number D1604/01 and high-pressure liquid chromatography/triple stage quadrupole mass spectrometry (LC/MS/MS) is used to measure and evaluate the chemical broflanilide residues. Contact: RD.

2. PP 2F9002. (EPA-HQ-OPP-2022-0479). Bayer CropScience, 800 N. Lindbergh Blvd., St. Louis, MO, 63141, requests to amend the tolerance in 40 CFR 180.653 for residues of the herbicide indaziflam including its metabolites and degradates in or on the raw agricultural commodities: Grass forage, fodder, and hay group 17, forage at 50 ppm and hay at 80 ppm and for livestock fat, meat, meat byproducts, milk and milk fat at 0.1, 0.01, 0.30, 0.015, and 0.04 ppm respectively. The LC/MS/MS method is used to measure and evaluate the chemical indaziflam. Contact: RD.

C. New Tolerance Exemptions for Inerts (Except PIPS)

1. PP IN-11559. (EPA-HQ-OPP-2021-0305). Valent BioSciences LLC, 1910 Innovation Way, Suite 100, Libertyville, Il, 60048, requests to establish an exemption from the requirement of a tolerance for residues of malic acid (CAS Reg. No. 6915-15-7) when used as a pesticide inert ingredient (buffering, stabilizing agent) in pesticide formulations under 40 CFR 180.920. The petitioner believes no analytical method is needed because it is not required for an exemption from the requirement of a tolerance. Contact: RD.

2. PP IN-11645. (EPA-HQ-OPP-2022-0390). Spring Regulatory Sciences, 6620 Cypresswood Dr., Suite 250, Spring, TX 77379 on behalf of Stepan Company, 22 W. Frontage Rd., Northfield, IL 60093, requests to establish an exemption from the requirement of a tolerance in 40 CFR part 180.960 for residues of oxirane, 2-(phenoxymethyl)-, polymer with oxirane, monobutyl ether, block (A CI) (CAS Reg. No. 1010819-15-4), when used as a pesticide inert ingredient (surfactant and/or adjuvant of surfactants) in pesticide formulations. The petitioner believes no analytical method is needed because it is not required for an exemption from the requirement of a tolerance. Contact: RD.

3. PP IN-11697. (EPA-HQ-OPP-2022-0507). The Dow Chemical Company, 715 E Main Street, Midland MI, requests to establish an exemption from the requirement of a tolerance in 40 CFR part 180.960 for residues of siloxanes and silicones, di-me, me hydrogen, reaction products with vinyl group-terminated di-me siloxanes (CAS Reg. No. 156065-02-0) when used as a pesticide inert ingredient (foam control additive) in pesticide formulations. The petitioner believes no analytical method is needed because it is not required for an exemption from the requirement of a tolerance. Contact: RD.

D. New Tolerances for Non-Inerts

1. PP 1E8939. (EPA-HQ-OPP-2021-0789). BASF Corporation, 26 Davis Dr., Research Triangle Park, NC 27709 requests to establish a tolerance in 40 CFR part 180.589 for residues of the herbicide glufosinate-ammonium (butanoic acid, 2-amino-4-(hydroxymethylphosphinyl)-monoammonium salt) and its metabolites, 2-acetamido-4-methylphosphinico-butanoic acid and 3-methylphosphinico-propionic acid, expressed as 2-amino-4-(hydroxymethylphosphinyl)butanoic acid equivalents in or on fresh tea leaves at 0.05 ppm and dried tea leaves at 0.50 ppm. Analytical methods include water extraction, filtration, addition of an isotopically labeled internal standard followed by solid phase extraction and high-performance LC/MS/MS and are used to measure and evaluate the chemical glufosinate-ammonium (butanoic acid, 2-amino-4-(hydroxymethylphosphinyl)-monoammonium salt) and its metabolites, 2-acetamido-4-methylphosphinico-butanoic acid and 3-methylphosphinico-propionic acid, expressed as 2-amino-4-(hydroxymethylphosphinyl)butanoic acid equivalents. Contact: RD.

2. PP 1E8952. (EPA-HQ-OPP-2021-0789). BASF Corporation, 26 Davis Drive, Research Triangle Park, NC 27709 requests to establish a tolerance in 40 CFR part 180.589 for residues of the herbicide glufosinate-ammonium (butanoic acid, 2-amino-4-(hydroxymethylphosphinyl)-monoammonium salt) and its metabolites, 2-acetamido-4-methylphosphinico-butanoic acid and 3-methylphosphinico-propionic acid, expressed as 2-amino-4-(hydroxymethylphosphinyl) butanoic acid equivalents in or on rice, grain at 0.9 ppm. Analytical methods include water extraction, filtration, addition of an isotopically labeled internal standard followed by solid phase extraction and LC/MS/MS and are used to measure and evaluate the chemical glufosinate-ammonium(butanoic acid, 2-amino-4-(hydroxymethylphosphinyl)-monoammonium salt) and its metabolites, 2-acetamido-4-methylphosphinico-butanoic acid and 3-methylphosphinico-propionic acid, expressed as 2-amino-4-(hydroxymethylphosphinyl)butanoic acid equivalents. Contact: RD.

3. PP 2E8990. (EPA-HQ-OPP-2022-0508). Tea Association of the U.S.A. Inc., 362 5th Avenue, Suite 1002, New York, NY 10001, requests to establish a tolerance in 40 CFR part 180 for residues of the insecticide cypermethrin ([cyano-(3-phenoxyphenyl)methyl]-3-(2,2-dichloroethenyl)-2,2-dimethylcyclopropane-1-carboxylate), in or on tea, dried at 15 parts ppm. The GC-ECD method C is used to measure and evaluate the chemical cypermethrin. Contact: RD.

4. PP 2E8999. (EPA-HQ-OPP-2022-0502). Gowan Company P.O. Box 5569, Yuma, AZ 85366, requests to establish a tolerance in 40 CFR part 180 for residues of the herbicide trifluralin in or on tea at 0.05 ppm. The analytical method used is acetone water extraction with QuEChERS clean up. Quantitation was performed by gas chromatography with tandem mass spectrometric detection. This method is used to measure and evaluate the chemical residues of trifluralin. Contact: RD.

5. PP 1F8974. (EPA-HQ-OPP-2022-0258). BASF Corporation, 26 Davis Drive, P.O. Box 13528, Research Triangle Park, NC 27709-3528 requests to establish a tolerance in 40 CFR part 180.666 for residues of the fungicide fluxapyroxad (3-(difluoromethyl)-1-methyl-N-(3′,4′,5′-trifluoro[1,1′-biphenyl]-2-yl)-1H-pyrazole-4-carboxamide) in or on avocado at 0.6 ppm. Independently validated analytical methods that have been submitted are used to measure and evaluate the chemical fluxapyroxad and its metabolites, M700F008, M700F048, and M700F002. Contact: RD.

6. PP 2F8986. (EPA-HQ-OPP-2022-0314). Syngenta Crop Protection, LLC, P.O. Box 18300, Greensboro, NC 27419, requests to establish a tolerance in 40 CFR part 180 for residues of the fungicide, sedaxane (N-[2-[1,1′-bicyclopropyl]-2-ylphenyl]-3-(difluoromethyl)-1-methyl-1H-pyrazole-4-carboxamide), in or on vegetable, cucurbit, group 9 at 0.01 ppm and vegetable, dry bulb, crop subgroup 3-07A at 0.01 ppm. Methods GRM023.01A and modified method GRM023.01B, taken through an extraction procedure with final determination by high-performance LC/MS/MS are used to measure and evaluate the chemical Sedaxane in its cis and trans isomer forms. Contact: RD.

Authority: 21 U.S.C. 346a.

Dated: July 13, 2022.
Delores Barber,
Director, Information Technology and Resources Management Division, Office of Program Support.

[FR Doc. 2022-15518 Filed 7-19-22; 8:45 am]

BILLING CODE 6560-50-P